DEPARTMENT OF DEFENSE

Department of the Air Force

Record of Decision for the Military Housing Privatization Initiative Hurlburt Field and Eglin Air Force Base, Florida, Final Environmental Impact Statement

ACTION: Notice of Availability (NOA) of a Record of Decision (ROD).

SUMMARY: On February 6, 2012, the United States Air Force signed the ROD for the Military Housing Privatization Initiative (MPHI) Hurlburt Field and Eglin Air Force Base, Florida, Final Environmental Impact Statement (FEIS). The MHPI ROD documents the Air Force Decision selecting Alternative 4, Mix Alternative (FEIS § 2.3.6) in the FEIS along with the project commenalities described in the FEIS (FEIS § 2.1).

The decision was based on matters discussed in the FEIS, inputs from the public and regulatory agencies, and other relevant factors. The FEIS was made available to the public on June 24, 2011 through a NOA in the Federal Register (Volume 76, Number 122, Page 371112) with a wait period that ended on July 25, 2011. The ROD documents only the decision of the Air Force with respect to the proposed Air Force actions analyzed in the FEIS. Authority: This NOA is published pursuant to the regulations (40 CFR Part 1506.6) implementing the provisions of the NEPA of 1969 (42 U.S.C. 4321, et seq.) and the Air Force's Environmental Impact Analysis Process (EIAP) (32 CFR Parts 989.21(b) and 989.24(b)(7)).

FOR FURTHER INFORMATION CONTACT: Mr. Jay Nash; HQ/USAF/A4/7, 1030 Air Force Pentagon, Washington, DC 20330-1030; (703) 693-4001.

Bao-Anh Trinh,
Air Force Federal Register Liaison Officer.

[FR Doc. 2012-5640 Filed 3-7-12; 8:45 am]

BILLING CODE 5001-06-P